FEDERAL COMMUNICATIONS COMMISSION

47 CFR Part 73

[DA 01-2909; MM Docket No. 98-188, RM-9346, RM-9656, RM-9657

Radio Broadcasting Services; Paonia and Olathe, CO

AGENCY: Federal Communications Commission.

ACTION: Final rule.

SUMMARY: In response to a Notice of Proposed Rule Making, 63 FR 57637 (October 28, 1998), this document compared mutually exclusive proposals for Channel 293C at Olathe, Colorado, and Channel 293C1 at Paonia, Colorado, under the FM Allotment Priorities and allotted Channel 293C at Olathe because this would result in a first local service. The reference coordinates for Channel 293C at Olathe are 38-37-03 NL and 107-58-33 WL.

DATES: Effective January 28, 2002.

FOR FURTHER INFORMATION CONTACT: Andrew Rhodes, Mass Media Bureau, (202) 418-2180.

SUPPLEMENTARY INFORMATION: This is a synopsis of the Commission's Report and Order in MM Docket No. 98-188, adopted November 28, 2001, and released December 14, 2001. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC, 20554, telephone 202-863-2893, facsimile 202-863-2898, or via e-mail qualexint@aol.com.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334, and 336.

§ 73.202 [Amended]

2. Section 73.202(b), the Table of FM Allotments under Colorado, is amended by adding Olathe, Channel 293C.

Federal Communications Commission.
John A. Karousos,
Chief, Allocations Branch, Policy and Rules Division, Mass Media Bureau.

[FR Doc. 02-375 Filed 1-7-02; 8:45 am]

BILLING CODE 6712-01-P